DEPARTMENT OF ENERGY

International Energy Agency Meeting

AGENCY: Department of Energy.

ACTION: Notice of meeting.

SUMMARY: The Industry Advisory Board (IAB) to the International Energy Agency (IEA) will meet on June 14 and 15, 2001, at the headquarters of the IEA in Paris, France in connection with a meeting of the IEA's Standing Group on Emergency Questions (SEQ).

FOR FURTHER INFORMATION CONTACT: Samuel M. Bradley, Assistant General Counsel for International and National Security Programs, Department of Energy, 1000 Independence Avenue, SW, Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on June 14 and 15, 2001, beginning at approximately 9:15 a.m. on June 14. The purpose of this notice is to permit attendance by representatives of U.S. company members of the IAB at a meeting of the IEA's Standing Group on Emergency Questions (SEQ), which is scheduled to be held at the IEA on June 14 and 15, including a preparatory encounter among company representatives from approximately 9:15 a.m. to 9:30 a.m. on June 14.

The Agenda for the preparatory encounter among company representatives is to elicit views regarding items on the SEQ's Agenda. The Agenda for the SEQ meeting is under the control of the SEQ. It is expected that the SEQ will adopt the following Agenda:

1. Adoption of the Agenda

2. Approval of the Summary Record of the 101st Meeting

3. Report on the IEA Millennium Conference and Security Issues of the Ministerial Meeting

4. The SEQ Program of Work

—The Year 2002 Work Program of the SEQ

5. Measures to Ensure Compliance with IEA Stockholding Commitments

6. Unavailable Stocks

7. The Current Oil Market Situation

—Report on the Oil Market Situation

—Oil Market Transparency Initiatives

8. Oil Stock Ticket Systems in IEA Member Countries

—Questionnaire Response of Member Countries

9. Emergency Response Procedures

—Transition from CERM (Coordinated Emergency Response Measures) to IEP (International Energy Program) measures

10. Current IAB Activities

11. Questionnaire for Emergency Response Reviews

12. Emergency Response Training and Simulation Exercise

—Initial Proposal for the Emergency Response Training Simulation Exercise 2002 (ERE 2)

13. Policy and Legislative Developments in Member Countries

—Greece

—Italy

—Japan

—Portugal

—The Netherlands

—Others

14. Policy and Legislative Developments in Candidate Countries

—Korea's Accession to the IEA

—Others

15. Oil Security Developments in Non-Member Countries

—Oil Security Cooperation with China: Next Steps

—Other Initiatives and Events

16. Emergency Reserve Issues

—Emergency Reserve and Net Import Situation of IEA Countries on April 1, 2001

—Emergency Reserve Situation of IEA Candidate Countries

17. Emergency Data System and Related Questions

—Monthly Oil Statistics March 2001

—Base Period Final Consumption 2Q00/1Q01

—Quarterly Oil Forecast—Current Quarter 2Q2001

18. Dispute Settlement Center—Panel of Arbitrators

19. Other Business

—Dates of Next Meetings: November 12-13, 2001, March 4-7, 2002, June 25-27, 2002

As provided in section 252(c)(1)(A)(ii) of the Energy Policy and Conservation Act (42 U.S.C. 6272(c)(1)(A)(ii)), this meeting is open only to representatives of members of the IAB and their counsel, representatives of members of the SEQ, representatives of the Departments of Energy, Justice, and State, the Federal Trade Commission, the General Accounting Office, Committees of Congress, the IEA, and the European Commission, and invitees of the IAB, the SEQ, or the IEA.

Issued in Washington, DC, 31, 2001.
Eric J. Fygi,
Deputy General Counsel.

[FR Doc. 01-14219 Filed 6-5-01; 8:45 am]

BILLING CODE 6450-01-U